DEPARTMENT OF COMMERCE

National Oceanic and Atmospheric Administration

RIN 0648-XB086

Advisory Committee to the U.S. Section to the International Commission for the Conservation of Atlantic Tunas (ICCAT); Spring Species Working Group Meeting

AGENCY: National Marine Fisheries Service (NMFS), National Oceanic and Atmospheric Administration (NOAA), Commerce.

ACTION: Notice of Advisory Committee meeting.

SUMMARY: The Advisory Committee (Committee) to the U.S. Section to the International Commission for the Conservation of Atlantic Tunas (ICCAT) announces its annual spring meeting on May 1-2, 2012. The Committee will meet with its Technical Advisors to discuss matters relating to ICCAT, including the 2011 Commission meeting results; research and management activities; global and domestic initiatives related to ICCAT; the Atlantic Tunas Convention Act-required report on any identification of countries that are diminishing the effectiveness of ICCAT; the results of meetings of the Committee's Species Working Groups; and other matters relating to the international management of ICCAT species.

DATES: The open sessions of the Committee meeting will be held on May 1, 2012, 8:30 a.m. to 3 p.m., and May 2, 2012, 9 a.m. to 1:15 p.m. Closed sessions will be held on May 1, 2012, 3:15 p.m. to 6 p.m., and on May 2, 2012, 8 a.m. to 9 a.m.

ADDRESSES: The meeting will be held at the Hilton Hotel, 8727 Colesville Rd., Silver Spring, MD 20910. The phone number is (301) 589-5200.

FOR FURTHER INFORMATION CONTACT: Rachel O'Malley at (301) 427-8373.

SUPPLEMENTARY INFORMATION: The Advisory Committee to the U.S. Section to ICCAT will meet in open session to receive and discuss information on the 2011 ICCAT meeting results and U.S. implementation of ICCAT decisions; NMFS research and monitoring activities; global and domestic initiatives related to ICCAT; the Atlantic Tunas Convention Act-required consultation on any identification of countries that are diminishing the effectiveness of ICCAT; the results of the meetings of the Committee's Species Working Groups; and other matters relating to the international management of ICCAT species. The public will have access to the open sessions of the meeting, but there will be no opportunity for public comment.

The Committee will meet in its Species Working Groups for part of the afternoon of May 1, 2012, and for one hour on the morning of May 2, 2012. These sessions are not open to the public, but the results of the species working group discussions will be reported to the full Advisory Committee during the Committee's open session on May 2, 2012.

Special Accommodations

The meeting location is physically accessible to people with disabilities. Requests for sign language interpretation or other auxiliary aids should be directed to Rachel O'Malley at (301) 427-8373 at least 5 days prior to the meeting date.

Dated: March 20, 2012.
Rebecca J. Lent,
Director, Office of International Affairs, National Marine Fisheries Service.

[FR Doc. 2012-7064 Filed 3-22-12; 8:45 am]

BILLING CODE 3510-22-P